DEPARTMENT OF HEALTH AND HUMAN SERVICES

[Document Identifier: OS-0990-0321]

30-Day Notice; Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Title: HHS Web Site Customer Satisfaction Survey—0990-0321—Reinstatement with change—Office of the Assistant Secretary for Public Affairs.

Abstract: The results of the HHS Web Site Customer Satisfaction Survey will be used to ensure that the content on the HHS Web sites meets visitor needs and expectations. The results will also determine if the site is easy to use and the content easy to understand.

Estimated Annualized Burden Table
Form | Number of respondents | Number of responses per respondent | Average burden hours per response (in hrs.) | Total burden hours
Survey | 48,000 | 1 | 12/60 | 9,600

Mary Forbes,
Office of the Secretary, Paperwork Reduction Act Reports Clearance Officer.

[FR Doc. 2011-8796 Filed 4-12-11; 8:45 am]

BILLING CODE 4150-25-P